DEPARTMENT OF HOMELAND SECURITY

U.S. Citizenship and Immigration Services

[CIS No. 2532-13; DHS Docket No. USCIS-2006-0068]

Introduction of a New Version of Employment Eligibility Verification Form

AGENCY: U.S. Citizenship and Immigration Services (USCIS), Department of Homeland Security (DHS).

ACTION: Notice.

SUMMARY: U.S. Citizenship and Immigration Services (USCIS) is announcing a new version of Form I-9, Employment Eligibility Verification. Employers must use Form I-9 to verify the identity and employment authorization of their employees. USCIS made significant changes to the form and its instructions, including a checkbox to indicate that an employee's Form I-9 documentation was examined using a DHS-authorized alternative procedure. This Notice contains the dates of both the prior version and the new version of Form I-9 that employers may use, as well as the date when the prior version will become obsolete.

DATES: Form I-9, Employment Eligibility Verification, with a version date of “(Rev. 08/01/23)” is available for use beginning August 1, 2023. The prior version of Form I-9 (Rev. 10/21/19) continues to be effective through October 31, 2023.

FOR FURTHER INFORMATION CONTACT: Laura Ragan Henry, Branch Chief, Employment Eligibility, Verification Division, Immigration Records and Identity Services, U.S. Citizenship and Immigration Services, U.S. Department of Homeland Security, 5900 Capital Gateway Dr., Camp Springs, MD 20746, telephone number (240) 721-3000 (This is not a toll-free number. Comments are not accepted via telephone message). Employers can contact the Form I-9 Contact Center at 888-464-4218 (TTY: 877-875-6028) and employees can call 888-897-7781 (TTY: 877-875-6028) for more information. The public can also email the Form I-9 Contact Center at i-9central@dhs.gov.

SUPPLEMENTARY INFORMATION:

I. Background

Employers and certain agricultural recruiters and referrers for a fee (referred to collectively as employers in this notice) must verify the identity and employment authorization of each individual they hire for employment in the United States on Form I-9, Employment Eligibility Verification.

The new Form I-9 contains two sections and two supplements:

Section 1 of the form collects, at the time of hire, identifying information about the employee (and preparer or translator if used), and requires the employee to attest to whether the employee is a U.S. citizen, noncitizen national, lawful permanent resident, or noncitizen authorized to work in the United States.

Section 2 of the form collects, within three days of the employee's hire, identifying information about the employer and information regarding the employee's identity and employment authorization. The employee must present original documentation evidencing the employee's identity and employment authorization, which the employer must review.

Supplement A, Preparer and/or Translator Certification for Section 1, is completed when employees have preparers and/or translators assist them in completing Section 1 of Form I-9.

Supplement B, Reverification and Rehire (formerly Section 3), is primarily used to verify the continued employment authorization of the employee. This Supplement is completed prior to the date that the employee's employment authorization and/or employment authorization documentation recorded in either Section 1 or Section 2 of the form expires, if applicable. This Supplement may also be used if the employee is rehired within 3 years of the date of the initial completion of the form and to record a name change.

Employers must maintain Forms I-9 for as long as an individual works for the employer and for the required retention period after the termination of an individual's employment (either 3 years after the date of hire or 1 year after the date employment ended, whichever is later). Also, employers must make their employees' Forms I-9 available for inspection upon request by officers of the Department of Homeland Security (DHS), the Immigrant and Employee Rights Section (IER) in the Department of Justice's Civil Rights Division, and the Department of Labor. An employer's failure to ensure proper completion and retention of Forms I-9 may subject the employer to civil money penalties, and, in some cases, criminal penalties.

On March 30, 2022, USCIS published a 60-day information collection notice in the Federal Register at 87 FR 18377 inviting the public to comment on a proposed revision of the Form I-9 and renewal request of the information collection to the Office of Management and Budget (OMB) as required by the Paperwork Reduction Act of 1995. USCIS received and responded to 184 comments on the 60-day notice. On July 8, 2022, USCIS published a second notice at 87 FR 40857 inviting the public to comment on the proposed revision of the Form I-9 for a 30-day period. USCIS received and responded to 72 comments on the 30-day notice. On January 10, 2023, OMB approved a three-year extension without change of the updated Form I-9. See OMB No. 1615-0047 at www.reginfo.gov.

Concurrent with this process, DHS issued a notice of proposed rulemaking (NPRM), Optional Alternatives to the Physical Document Examination Associated with Employment Eligibility Verification (Form I-9), seeking comment on additional potential changes to the Form I-9. See 87 FR 50786, 50793 (Aug. 18, 2022). Specifically, DHS proposed to create a framework under which the Secretary of Homeland Security may, as an optional alternative to the regulatory in-person physical document examination method that employers have used to examine employees' Form I-9 documents, authorize alternative document examination procedures, such as for remote document examination. As part of this proposal, DHS proposed to add a checkbox to the Form I-9, which an employer would use to indicate their use of an alternative document examination procedure. In this issue of the Federal Register, DHS published a final rule on this topic as well as an accompanying document authorizing an alternative procedure for document examination. Consistent with the final rule, the newly updated Form I-9 contains such a checkbox.

II. Changes to Form I-9

The newly updated Form I-9 contains myriad revisions to the form and its instructions to streamline these materials and reduce employer and employee burden associated with the form.

USCIS made the following updates to the Form I-9:

• Reduced Sections 1 and 2 to a single-sided sheet. No previous fields were removed. Rather, multiple fields were merged into fewer fields when possible.

• Moved the Section 1 Preparer/Translator Certification area to a separate, standalone supplement (Supplement A) that employers can provide to employees when necessary. Employers may attach additional supplement sheets as needed.

• Moved the Section 3 Reverification and Rehire area to a separate, standalone supplement (Supplement B) that employers can print if or when rehire occurs or reverification is required. Employers may attach additional supplement sheets as necessary.

• Removed use of “alien authorized to work” in Section 1 and replaced it with “noncitizen authorized to work” as well as clarified the difference between “noncitizen national” and “noncitizen authorized to work.”

• Ensured the form can be filled out on tablets and mobile devices.

• Removed certain features to ensure the form can be downloaded easily. This also removes the requirement to enter N/A in certain fields.

• Updated the notice at the top of the Form I-9 that explains how to avoid discrimination in the Form I-9 process.

• Revised the Lists of Acceptable Documents page to include some acceptable receipts as well as guidance and links to information on automatic extensions of employment authorization documentation.

• Added a box that eligible employers must check if the employee's Form I-9 documentation was examined under a DHS-authorized alternative procedure rather than via physical examination.

USCIS updated the following in the Form I-9 instructions:

• Reduced length of instructions from 15 pages to 8 pages.

• Added definitions of key actors in the Form I-9 process.

• Streamlined the steps each actor takes to complete their section of the form.

• Added instructions for use of the new checkbox for employers who choose to examine Form I-9 documentation under an alternative procedure.

• Removed the abbreviations charts and relocated them to the M-274, Handbook for Employers: Guidance for Completing Form I-9.

III. Use of the Updated Form I-9

In this Notice, USCIS is announcing that as of August 1, 2023, employers should begin using Form I-9 with a version date of “(Rev. 08/01/23)” to comply with their employment eligibility verification responsibilities. The version date is located in the bottom corner of the form.

Employers may continue using the prior version of Form I-9 (Rev. 10/21/19) through October 31, 2023. USCIS is allowing employers this additional time to make necessary updates and adjust their business processes. After October 31, 2023, the prior version of Form I-9 will be obsolete and no longer valid for use. The public can download the current Form I-9 from www.uscis.gov/i-9. Beginning November 1, 2023, employers who fail to use Form I-9 (Rev. 08/01/23) may be subject to all applicable penalties under section 274A of the Immigration and Nationality Act (INA), 8 U.S.C. 1324a, as enforced by U.S. Immigration and Customs Enforcement (ICE).

Employers do not need to complete the new Form I-9 (Rev. 08/01/23) for current employees who already have a properly completed Form I-9 on file, unless reverification applies after October 31, 2023. Unnecessary verification may violate the INA's anti-discrimination provision, section 274B of the INA, 8 U.S.C. 1324b, which is enforced by IER.

IV. Obtaining Form I-9 (Rev. 08/01/2023)

An exemplar of the revised Form I-9 can be viewed at www.regulations.gov under the docket for this notice [CIS No. 2532-13; DHS Docket No. USCIS-2006-0068]. Starting on August 1, 2023, employers may download the new Form I-9 (Rev. 08/01/23) from the USCIS website at www.uscis.gov/i-9. Employers can order the paper Form I-9 at www.uscis.gov/forms/forms-by-mail. For more information, the public can contact the USCIS Contact Center at 800-375-5283 or visit USCIS' I-9 Central web page at www.uscis.gov/i-9central.

A Spanish-language version of the new Form I-9 is also available at www.uscis.gov/i-9 for use in Puerto Rico only.

Ur M. Jaddou,
Director, USCIS.

[FR Doc. 2023-15667 Filed 7-21-23; 8:45 am]

BILLING CODE 9111-97-P